DEPARTMENT OF HOUSING AND URBAN DEVELOPMENT

[Docket No. FR-4558-N-02]

Mortgagee Review Board; Administrative Actions

AGENCY: Office of the Assistant Secretary for Housing-Federal Housing Commissioner, HUD.

ACTION: Notice.

SUMMARY: In compliance with Section 202(c) of the National Housing Act, notice is hereby given of the cause and description of administrative actions taken by HUD's Mortgagee Review Board against HUD-approved mortgagees.

FOR FURTHER INFORMATION CONTACT: Phillip A. Murray, Director, Office of Lender Activities and Program Compliance, Room B-133-3214 Plaza, 451 7th Street, SW, Washington, DC 20410, telephone: (202)708-1515. (This is not a toll-free number.) A Telecommunications Device for Hearing and Speech-Individuals (TTY) is available at 1-800-877-8339 (Federal Information Relay Service).

SUPPLEMENTARY INFORMATION: Section 202(c)(5) of the National Housing Act (added by Section 142 of the Department of Housing and Urban Development Reform Act of 1989, Pub. L. 101-235, approved December 15, 1989), requires that HUD “publish a description of and the cause for administrative actions against a HUD-approved mortgagee” by the Department's Mortgagee Review Board. In compliance with the requirements of Section 202(c)(5), notice is hereby given of administrative actions that have been taken by the Mortgagee Review Board from October 1, 1999 through March 31, 2000.

1. Title I Lenders and Title II Mortgagees that failed to comply with HUD/FHA requirements for the submission of an audited annual financial statement and/or payment of the annual recertification fee.

Action: Withdrawal of HUD/FHA Title I lender approval and Title II mortgagee approval.

Cause: Failure to submit to the Department the required annual audited financial statement, an acceptable annual audited financial statement, and/or remit the required annual recertification fee.

Title I_Lenders Withdrawn Between October 1, 1999 and March 31, 2000
Lender name | City | State
Abundant Financial Inc | Inglewood | CA
American Financial Resources Inc | Phoenix | AZ
Ameritex Residential Mtg Inc | Hurst | TX
First Federal Bancorp | Pomona | CA
Gibraltar Financial Corp | Santa Ana | CA
Michigan Mortgage Lenders Corp. | Bloomfield Hills | MI
Mid-America Loan—Mtg Co Inc | Hot Springs | AR
One Stop Loan Shop Inc | Studio City | CA
RC Mortgage Inc | Rancho Cucamonga | CA
Rockwell Equities Inc | Old Brookville | NY
Shamrock Corp dba AMS America's Mtg Serv | Carlsbad | CA
Total Financial Services Inc | Palm Desert | CA
United Mortgagee Inc | Virginia Beach | VA

Title II_Mortgagees Withdrawn Between October 1, 1999 and March 31, 2000
Mortgagee name | City | State
Affordable Home Mortgage Loans Inv Inc | Port Charlotte | FL
Ameritex Residential Mtgs Inc | Hurst | TX
Casa Financial DE America | Modesto | CA
Community Home Mortgage Inc | Macon | MO
First Federal Bancorp dba American Mtg | Pomona | CA
Gibraltar Financial Corp | Santa Ana | CA
Home Financial Services Inc | Berwyn | IL
Home Lending LC | Landover | MD
Hyde Park Cooperative Bank | Hyde Park | MA
John Dennis Inc | Ventura | CA
M Capital Corp | Orange | CA
Mortgage Place | Oklahoma City | OK
One Stop Loan Shop Inc | Encino | CA
RC Mortgage Inc | Rancho Cucamonga | CA
Rockwell Equities Inc | Jericho | NY
Sovereign Mortgage Group Inc | Atlanta | GA
Sun America Mortgage Corp | Covina | CA
WSB Mortgage Co of NJ Inc | West Milford | NJ

William C. Apgar,
Assistant Secretary for Housing-Federal Housing Commissioner, Chairman Mortgagee Review Board.

[FR Doc. 00-15859 Filed 6-22-00; 8:45 am]

BILLING CODE 4210-27-P